DEPARTMENT OF ENERGY

Federal Energy Regulatory Commission

[Project No. 12629-003]

F&B Wood Corporation; Milltown Hydroelectric LLC.; Notice of Transfer of Exemption

1. Pursuant to section 4.106(i) of the Commission's regulations,¹ F&B Wood Corporation, exemptee for the Corriveau Hydroelectric Project No. 12629 ², has informed the Commission that it has transferred ownership of the exempted project property and facilities for Project No. 12629 to Milltown Hydroelectric LLC.³ The project is located on the Swift River in Oxford County, Maine. The transfer of an exemption does not require Commission approval.⁴

¹ 18 CFR 4.106(i) (2011).

² The Commission issued an exemption from licensing for Project No. 12629 on October 24, 2006. F&B Wood Corp.,117 FERC ¶ 62,059 (2006)

³ See filings of May 9 and July 5, 2011, from Fernand Corriveau, President of F&B Wood Corporation.

⁴ E.g., John C. Jones, 99 FERC ¶ 61,372, at 62,580 n.2 (2002).

2. Milltown Hydroelectric LLC, located at 8 Brown Street, Mexico, Maine, is now the exemptee of the Corriveau Project No. 12629.

Dated: August 11, 2011.
Kimberly D. Bose,
Secretary.

[FR Doc. 2011-20974 Filed 8-16-11; 8:45 am]

BILLING CODE 6717-01-P